DEPARTMENT OF HOMELAND SECURITY

United States Fire Academy; Assistance to Firefighters Program Office, for Comments on a New Information Collection Request General Admissions Application Long and Short Form; Submission For Review; Extension Of Currently Approved Information Collection

AGENCY: United States Fire Academy, Department of Homeland Security.

ACTION: Notice; 30-day notice of information collections under review.

SUMMARY: The Department of Homeland Security (DHS) has submitted the following information collection requests (ICRs) to the Office of Management and Budget (OMB) for review and clearance in accordance with the Paperwork Reduction Act of 1995. The information collections were previously published in the Federal Register on October 24, 2006, at 71 Federal Register 62274-62275 as 1660-0002, allowing for OMB review and a 60-day public comment period.

The purpose of this notice is to allow an additional 30 days for public comments.

DATES: Comments are encouraged and will be accepted until March 29, 2007. This process is conduced in accordance with 5 CFR 1320.10.

Comments: Interested persons are invited to submit written comments on the proposed information collection to the Office of Information and Regulatory Affairs, Office of Management and Budget. Comments should be addressed to Nathan Lesser, Desk Officer, Department of Homeland Security/FEMA, and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Nathan Lesser, Desk Officer, Department of Homeland Security/FEMA, and sent via electronic mail to oira_submission@omb.eop.gov or faxed to (202) 395-6974.

SUPPLEMENTARY INFORMATION:

Analysis

Agency: Department of Homeland Security, Federal Emergency Management Agency.

Title: General Admissions Application Long and Short Form.

OMB No.: 1670-0002 (formerly under OMB Number 3067-0024, which OMB, transferred from FEMA to the Department of Homeland, Security effective March 1, 2003).

Frequency: Submitted by applicants when applying for a class.

Affected Public: Individuals in the emergency services in Federal, state, tribal, and local government, volunteer organizations, or private industry.

Estimated Number of Respondents:

FEMA Form 75-5, General Admissions Application—15,000 Responses.

FEMA Form 75-5a, General Admissions Application, Short Form—60,000 Responses.

FEMA Form 75-5 (automated), General Admissions Application—10,000 Responses.

FEMA Form 75-5a (automated), General Admissions Application, Short Form 15,000 Responses.

FEMA Form 75-3 and 75-3a, Student Stipend Agreement and Student Stipend Agreement (Amendment)—8,000 Responses.

FEMA Form 95-22, National Fire Academy—Executive Fire Officer Program Application for Admission 400 Responses.

Estimated Time Per Respondent:

FEMA Form 75-5, General Admissions Application—9 minutes.

FEMA Form 75-5a, General Admissions Application, Short Form—6 minutes.

FEMA Form 75-5 (automated), General Admissions Application—8 minutes.

FEMA Form 75-5a (automated), General Admissions Application, Short Form—5 minutes.

FEMA Form 75-3 and 75-3a, Student Stipend Agreement and Student Stipend Agreement (Amendment)—2 minutes.

FEMA Form 95-22, National Fire Academy—Executive Fire Officer Program Application for Admission—10 minutes.

Total Burden Hours:

FEMA Form 75-5, General Admissions Application—2,250 hours.

FEMA Form 75-5a, General Admissions Application, Short Form—6,000 hours.

FEMA Form 75-5 (automated), General Admissions Application—1,333 hours.

FEMA Form 75-5a (automated), General Admissions Application, Short Form—1,250 hours.

FEMA Form 75-3 and 75-3a, Student Stipend Agreement and Student Stipend Agreement (Amendment)—267 hours.

FEMA Form 95-22, National Fire Academy—Executive Fire Officer Program Application for Admission—67 hours.

Total Burden Cost: $2.73 per respondent, $295,955 annually.

Description: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

FEMA plans to follow this emergency request with a request for a 3-year approval. The request will be processed under OMB's normal clearance procedures in accordance with the provisions of OMB regulation 5 CFR 1320.10. To help us with the timely processing of the emergency and normal clearance submissions to OMB, FEMA invites the comments on the proposed information collection.

Charlie Church,
Chief Information Officer, Preparedness Directorate.

[FR Doc. E7-3398 Filed 2-26-07; 8:45 am]

BILLING CODE 6718-01-P